DEPARTMENT OF HEALTH AND HUMAN SERVICES

National Institutes of Health

National Cancer Institute; Amended Notice of Meeting

Notice is hereby given of a change in the meeting of the National Cancer Institute Special Emphasis Panel, March 24, 2015 01:00 p.m. to March 24, 2015, 05:00 p.m., National Cancer Institute Shady Grove, 9609 Medical Center Drive, Rockville, MD, 20850 which was published in the Federal Register on February 03, 2015, 80FR5767.

The meeting notice is amended to change the title from NCI/R01/U54 Review to NCI P01/R01/U54 Review. The meeting is closed to the public.

Dated: March 4, 2015.
Melanie J. Gray,
Program Analyst, Office of Federal Advisory Committee Policy.

[FR Doc. 2015-05456 Filed 3-9-15; 8:45 am]

BILLING CODE 4140-01-P